DEPARTMENT OF DEFENSE

Office of the Secretary

[Docket ID DoD-2020-OS-0020]

Proposed Collection; Comment Request

AGENCY: Defense Contract Management Agency, DoD.

ACTION: Information collection notice.

SUMMARY: In compliance with the Paperwork Reduction Act of 1995, the Defense Contract Management Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 27, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Contract Management Agency, ATTN John Heib, Action Officer for Policy, at 8000 Jefferson Davis Hwy., Bldg. 54 North Tower, Richmond, VA 23297-5002.

Title; Associated Form; and OMB Number: Request for Approval for Qualification Training and Approval of Contractor Flight Crewmember; DD Form 2627, DD Form 2628, DD Form 3062; OMB Control Number 0704-0347.

Needs and Uses: This is a request for OMB approval of updated versions of previously approved collections (for DD Form 2627 and 2628) for which approval has expired, and for OMB approval of new collection (DD Form 3062) which replaces the Defense Contract Management Agency (DCMA) Form 644. The requirements to have government approval of contract flight crewmembers and contract flights is in Defense Contract Management Command Instruction (DCMA INST) 8210.1, Contractor's Ground and Flight Operations, Chapter 4. The contractor provides information on contractor personnel to the government. The government approves the contractor's request for aircrew training and eventually, approval for contractor personnel to operate and fly government aircraft. The government also approves all flights under contract.

Affected Public: Individuals or Households.

Annual Burden Hours: 5,400.

Number of Respondents: 150.

Responses per Respondent:

DD Form 2627: 2.

DD Form 2628: 2.

DD Form 3062: 52.

Annual Responses: 22,450.

Average Burden per Response:

DD Form 2627: 30 minutes.

DD Form 2628: 30 minutes.

DD Form 3062: 1 hour.

Frequency:

DD Form 2627: On occasion.

DD Form 2628: On occasion.

DD Form 3062: Weekly.

Dated: February 24, 2020.
Aaron T. Siegel,
Alternate OSD Federal Register Liaison Officer, Department of Defense.

[FR Doc. 2020-03946 Filed 2-26-20; 8:45 am]

BILLING CODE 5001-06-P